COMMITTEE FOR PURCHASE FROM PEOPLE WHO ARE BLIND OR SEVERELY DISABLED

Procurement List; Additions and Deletions

AGENCY: Committee for Purchase From People Who Are Blind or Severely Disabled.

ACTION: Additions to and deletions from Procurement List.

SUMMARY: This action adds to the Procurement List products and services to be furnished by nonprofit agencies employing persons who are blind or have other severe disabilities, and deletes from the Procurement List products previously furnished by such agencies.

EFFECTIVE DATE: May 29, 2005.

ADDRESS: Committee for Purchase from People Who Are Blind or Severely Disabled, Jefferson Plaza 2, Suite 10800, 1421 Jefferson Davis Highway, Arlington, Virginia, 22202-3259.

FOR FURTHER INFORMATION OR TO SUBMIT COMMENTS CONTACT: Sheryl D. Kennerly, Telephone: (703) 603-7740, Fax: (703)603-0655, or email SKennerly@jwod.gov.

SUPPLEMENTARY INFORMATION:

Additions

On February 25, and March 4, 2005, the Committee for Purchase From People Who Are Blind or Severely Disabled published notice (70 FR 9269, and 10596) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/NSN: 120cc High Density Polyethylene Pharmacy Bottle,6530-00-NIB-0120.

NPA: Alphapointe Association for the Blind, Kansas City, Missouri.

Contracting Activity: Veterans Affairs National Acquisition Center, Hines, Illinois.

Product/NSN: Flat Highlighters, Pink, 7520-01-351-9146.

NPA: Winston-Salem Industries for the Blind, Winston-Salem, North Carolina.

Contracting Activity: Office Supplies & Paper Products Acquisition Center, New York, NY.

Services

Service Type/Location: Administrative Service, Defense Procurement and Acquisition Policy Office, Crystal Square 4, Suite 200A, Arlington, Virginia.

NPA: Anchor Mental Health Association (Anchor Services Workshop), Washington, DC.

Contracting Activity: HQ Bolling—11th CONS/LGCO, Bolling AFB, DC.

Service Type/Location: Custodial Services, National Institute of Standards and Technology (NIST), Boulder Laboratories, Boulder, Colorado.

NPA: Bayaud Industries, Inc., Denver, Colorado.

Contracting Activity: National Oceanic and Atmospheric Administration, Boulder, Colorado.

Deletions

On March 4, 2005, the Committee for Purchase From People Who Are Blind or Severely Disabled published notice (70 FR 10596) of proposed deletions to the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Product/NSN: Kit, Backpack, 1375-01-204-1930.

NPA: Blind Industries & Services of Maryland, Baltimore, Maryland.

Contracting Activity: Naval Ships Parts Control Center, Mechanicsburg, Mechanicsburg, PA.

Product/NSN: Parts Kit, Spare, 1375-01-217-8725.

NPA: Blind Industries & Services of Maryland, Baltimore, Maryland.

Contracting Activity: Naval Ships Parts Control Center, Mechanicsburg, Mechanicsburg, PA.

Product/NSN: Trailer, Backpack, 1375-01-254-7721.

NPA: Blind Industries & Services of Maryland, Baltimore, Maryland.

Contracting Activity: Naval Ships Parts Control Center, Mechanicsburg, Mechanicsburg, PA.

Sheryl D. Kennerly,
Director, Information Management.

[FR Doc. E5-2053 Filed 4-28-05; 8:45 am]

BILLING CODE 6353-01-P